DEPARTMENT OF ENERGY

Federal Energy Regulatory Commission

Combined Notice of Filings #1

Take notice that the Commission received the following exempt wholesale generator filings:

Docket Numbers: EG25-11-000.

Applicants: Hummingbird Energy Storage, LLC.

Description: Hummingbird Energy Storage, LLC submits Notice of Self-Certification of Exempt Wholesale Generator Status.

Filed Date: 10/17/24.

Accession Number: 20241017-5051.

Comment Date: 5 p.m. ET 11/7/24.

Take notice that the Commission received the following Complaints and Compliance filings in EL Dockets:

Docket Numbers: EL24-148-000.

Applicants: Sierra Club, Natural Resources Defense Council, Public Citizen, Sustainable FERC Project And Union Of Concerned Scientists v. PJM Interconnection, L.L.C.

Description: Motion of PJM Interconnection, L.L.C. to Delay the Reliability Pricing Model Auctions Beginning with the December, 2024 Base Residual Auction for Delivery Year 2026/2027 through the 2029/2030 Delivery Year, et al.

Filed Date: 10/15/24.

Accession Number: 20241015-5541.

Comment Date: 5 p.m. ET 10/22/24.

Take notice that the Commission received the following electric rate filings:

Docket Numbers: ER22-282-004.

Applicants: El Paso Electric Company.

Description: Compliance filing: eTariff Correction for Settlement Compliance; Request for Ten-Day Comment Period to be effective 1/1/2022.

Filed Date: 10/17/24.

Accession Number: 20241017-5083.

Comment Date: 5 p.m. ET 10/28/24.

Docket Numbers: ER24-1306-002.

Applicants: Windy Flats Partners, LLC.

Description: Refund Report: Refund Report to be effective N/A.

Filed Date: 10/17/24.

Accession Number: 20241017-5000.

Comment Date: 5 p.m. ET 11/7/24.

Docket Numbers: ER24-2345-000.

Applicants: SEPV Cuyama, LLC.

Description: Refund Report: Refund Report to be effective N/A.

Filed Date: 10/17/24.

Accession Number: 20241017-5136.

Comment Date: 5 p.m. ET 11/7/24.

Docket Numbers: ER24-2720-000.

Applicants: Ohio Power Company.

Description: Refund Report: Refund Report: RS#400 Ohio Power Company—TrAILCo Kammer O&M Agreement to be effective N/A.

Filed Date: 10/17/24.

Accession Number: 20241017-5039.

Comment Date: 5 p.m. ET 11/7/24.

Docket Numbers: ER24-2827-000.

Applicants: American Electric Power Service Corporation, PJM Interconnection, L.L.C.

Description: Report Filing: American Electric Power Service Corporation submits tariff filing per : AEP Supplement to the Revised IA SA No. 1462 in ER24-2827 to be effective N/A.

Filed Date: 10/17/24.

Accession Number: 20241017-5160.

Comment Date: 5 p.m. ET 11/7/24.

Docket Numbers: ER25-118-000.

Applicants: PJM Interconnection, L.L.C.

Description: PJM Interconnection L.L.C.'s request for Waiver to delay the Reliability Pricing Model auctions for delivery year 2026/2027 through the 2029/2030 delivery years, Request for Expedited Action by 09/08/2024 et al.

Filed Date: 10/15/24.

Accession Number: 20241015-5557.

Comment Date: 5 p.m. ET 10/22/24.

Docket Numbers: ER25-123-000.

Applicants: Idaho Power Company.

Description: § 205(d) Rate Filing: RS 181—Concurrence—Pronghorn Interconnection at Antelope Substation to be effective 12/15/2024.

Filed Date: 10/16/24.

Accession Number: 20241016-5211.

Comment Date: 5 p.m. ET 11/6/24.

Docket Numbers: ER25-124-000.

Applicants: Illinois Winds LLC.

Description: Baseline eTariff Filing: Illinois Winds LLC MBR Tariff to be effective 12/2/2024.

Filed Date: 10/16/24.

Accession Number: 20241016-5222.

Comment Date: 5 p.m. ET 11/6/24.

Docket Numbers: ER25-125-000.

Applicants: ISO New England Inc.

Description: ISO New England Inc. submit Capital Budget Quarterly Filing for Third Quarter of 2024.

Filed Date: 10/15/24.

Accession Number: 20241015-5559.

Comment Date: 5 p.m. ET 11/5/24.

Docket Numbers: ER25-126-000.

Applicants: ITC Midwest LLC.

Description: § 205(d) Rate Filing: Concurrence IPL Amended Exhibits and Attachments (2024) to be effective 12/17/2024.

Filed Date: 10/17/24.

Accession Number: 20241017-5034.

Comment Date: 5 p.m. ET 11/7/24.

Docket Numbers: ER25-127-000.

Applicants: Wheatsborough Solar, LLC.

Description: Baseline eTariff Filing: Application for Market-Based Rate Authority to be effective 12/2/2024.

Filed Date: 10/17/24.

Accession Number: 20241017-5062.

Comment Date: 5 p.m. ET 11/7/24.

Docket Numbers: ER25-128-000.

Applicants: Arizona Public Service Company.

Description: § 205(d) Rate Filing: Service Agreements Nos. 218 and 335_Mead Phoenix to be effective 12/17/2024.

Filed Date: 10/17/24.

Accession Number: 20241017-5067.

Comment Date: 5 p.m. ET 11/7/24.

Docket Numbers: ER25-129-000.

Applicants: Alabama Power Company, Georgia Power Company, Mississippi Power Company.

Description: § 205(d) Rate Filing: Alabama Power Company submits tariff filing per 35.13(a)(2)(iii: Walnut Branch Solar LGIA Filing to be effective 10/7/2024.

Filed Date: 10/17/24.

Accession Number: 20241017-5082.

Comment Date: 5 p.m. ET 11/7/24.

Docket Numbers: ER25-130-000.

Applicants: PJM Interconnection, L.L.C.

Description: § 205(d) Rate Filing: Amendment to WMPA, SA No. 5981; Queue No. AG1-386 to be effective 12/17/2024.

Filed Date: 10/17/24.

Accession Number: 20241017-5094.

Comment Date: 5 p.m. ET 11/7/24.

Docket Numbers: ER25-131-000.

Applicants: California Independent System Operator Corporation.

Description: § 205(d) Rate Filing: 2024-10-17 Implement Queue Mgmt Proposals—Inter. Process Enhancements 2023 to be effective 12/17/2024.

Filed Date: 10/17/24.

Accession Number: 20241017-5112.

Comment Date: 5 p.m. ET 11/7/24.

Docket Numbers: ER25-132-000.

Applicants: PJM Interconnection, L.L.C.

Description: § 205(d) Rate Filing: Amendment to AC1-167_AE2-322, ISA SA No. 6517 to be effective 12/17/2024.

Filed Date: 10/17/24.

Accession Number: 20241017-5114.

Comment Date: 5 p.m. ET 11/7/24.

Docket Numbers: ER25-133-000.

Applicants: Hummingbird Energy Storage, LLC.

Description: Baseline eTariff Filing: Hummingbird Energy Storage, LLC MBR Tariff to be effective 12/17/2024.

Filed Date: 10/17/24.

Accession Number: 20241017-5152.

Comment Date: 5 p.m. ET 11/7/24.

Docket Numbers: ER25-134-000.

Applicants: ISO New England Inc.

Description: § 205(d) Rate Filing: Revised Tariff Sheets for Recovery of Costs for 2025 Operation of NESCOE to be effective 1/1/2025.

Filed Date: 10/17/24.

Accession Number: 20241017-5156.

Comment Date: 5 p.m. ET 11/7/24.

Docket Numbers: ER25-135-000.

Applicants: PJM Interconnection, L.L.C.

Description: Tariff Amendment: Notice of Cancellation of ISA, SA No. 5796; AC2-112 re:withdrawal to be effective 12/17/2024.

Filed Date: 10/17/24.

Accession Number: 20241017-5158.

Comment Date: 5 p.m. ET 11/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 17, 2024.
Debbie-Anne A. Reese,
Secretary.

[FR Doc. 2024-24527 Filed 10-22-24; 8:45 am]

BILLING CODE 6717-01-P